ENVIRONMENTAL PROTECTION AGENCY

[FRL-8495-2]

Request for Nomination to the Farm, Ranch, and Rural Communities Advisory Committee

AGENCY: Environmental Protection Agency (EPA).

ACTION: Notice of Request for Nominations.

SUMMARY: The U.S. Environmental Protection Agency (EPA) invites nominations for membership on the Farm, Ranch and Rural Communities Advisory Committee.

The membership of this committee will include a balanced representation of interested persons with relevant experience to contribute to the functions of the committee and will be drawn from farm groups, conservation and environmental groups, agricultural processors and retailers, academia, citizen's groups and tribal governments.

Background: In order to help EPA build a more positive and proactive relationship with the agricultural industry to protect human health and the environment, the EPA is forming a Farm, Ranch and Rural Communities Federal Advisory Committee. This Committee will provide advice and recommendations to the Administrator on environmental issues and programs that impact, or are of concern to, farms, ranches and rural communities.

The Committee expects to meet approximately two (2) times a year, or as needed and approved by the Designated Federal Officer DFO). Meetings will be held in Washington DC and the EPA regions. Members serve on the Committee in a voluntary capacity. However, EPA may provide reimbursement for travel expenses associated with official government business. Because of the nature of the issues to be discussed, it is the intent of the Agency for the Committee to have a majority of members who are actively engaged in farming or ranching.

Members may represent farmers, ranchers, and rural communities—large and small, crop and livestock, commodity and specialty, regionally balanced—and the rural suppliers, marketers, and processors that serve farmers, ranchers and rural communities; as well as the academic/research community who do research on environmental issues impacting agriculture, tribal agriculture groups, state and local government representatives, and environmental/conservation groups. USDA and other Federal agencies, as appropriate, will be invited to nominate members to serve as regular government employees.

In selecting committee members, EPA will consider each candidate's qualifications including, but not limited to, whether the candidate is:

• Actively engaged in farming.

• Occupies a senior position within their organization.

• Holds leadership positions in ag-related organizations, businesses and/or workgroups.

• Has broad experience outside of their current position.

• Has experience working on issues where building consensus is necessary.

• Has membership in professional societies, broad-based networks or the equivalent.

• Has extensive experience in the environmental field dealing with agricultural issues.

• Provides services to producers.

• Is involved in processing, retailing, manufacturing and distribution of agricultural products.

DATES: Establishment of this Committee will take place by the Fall of 2007. Any interested person or organization may submit the names of qualified persons, including themselves. Suggestions for the list of candidates should be identified by name, occupation, qualifications, organization, position, address, and telephone number. Submissions should include a resume or curriculum vita detailing the nominee's background, experience and qualifications and other relevant information, and a short biography should be included as well. Letters of support and recommendation will be accepted but are not mandatory.

ADDRESSES: Submit suggestions for candidates to: Marrietta Haggins, Staff Assistant, U.S. EPA (MC 1601M), 1200 Pennsylvania Avenue, NW., Washington, DC 20460, haggins.marrietta@epa.gov, 202-564-3692.

FOR FURTHER INFORMATION CONTACT: Jon Scholl, Counselor to the Administrator for Agricultural Policy, U.S. EPA (MC 1101A), 1200 Pennsylvania Avenue, NW., Washington, DC 20460, scholl.jon@epa.gov, 202-564-7719. The Agency will not formally acknowledge or respond to nominations.

SUPPLEMENTARY INFORMATION: The purpose of the proposed Committee is to provide advice to the Administrator of the Environmental Protection Agency (EPA) on environmental issues and programs that impact, or are of concern to, farms, ranches and rural communities. The Committee is a part of EPA's efforts to expand cooperative working relationships with the agriculture industry and to achieve greater progress in environmental protection. Topics covered may include issues relating to water, air and radiation, solid waste and emergency response, pesticides and toxics, enforcement and compliance assistance, and research and development. In addition, tools and approaches that are cross media in nature and would help agricultural producers improve their environmental performance, and barriers to greater environmental protection and means to improve working relationships between the Agency and agricultural producers, may also be examined. The Committee may be asked to: prepare papers, reports, letters, memos or other forms of correspondence to convey their advice and recommendations on implementing the FTTA, Executive Order 12591, and other related or associated authorities; review periodic EPA reports describing the Agency's progress in implementing statutes, executive orders and regulations on issues potentially impacting the agricultural industry; and, assess alternative approaches for measuring the environmental benefits of these activities.

Dated: October 31, 2007.
Jon Scholl,
Counselor to the Administrator for Agricultural Policy.

[FR Doc. E7-22380 Filed 11-14-07; 8:45 am]

BILLING CODE 6560-50-P